DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 4, 2007.

Interested persons are invited to submit written comments regarding the subject matter of the investigations to the Director, Division of Trade Adjustment Assistance, at the address shown below, not later than June 4, 2007.

The petitions filed in this case are available for inspection at the Office of the Director, Division of Trade Adjustment Assistance, Employment and Training Administration, U.S. Department of Labor, Room C-5311, 200 Constitution Avenue, NW., Washington, DC 20210.

Signed at Washington, DC, this 15th day of May 2007.
Ralph DiBattista,
Director, Division of Trade Adjustment Assistance.

Appendix
[TAA petitions instituted between 5/7/07 and 5/11/07]
TA-W | Subject firm (petitioners) | Location | Date of institution | Date of petition
61450 | Kentucky Derby Hosiery, Inc./Gildan Plant 3 (Comp) | Mt Airy, NC | 05/07/07 | 05/03/07
61451 | Irving Forest Products (Wkrs) | Strong, ME | 05/07/07 | 05/14/07
61452 | Commonwealth Home Fashions (Wkrs) | Willsboro, NY | 05/07/07 | 05/04/07
61453 | Deckerville Metal Systems LLC (Comp) | Deckerville, MI | 05/07/07 | 04/30/07
61454 | Leader Manufacturing (Wkrs) | St. Louis, MO | 05/07/07 | 05/04/07
61455 | Ogihara America Corportion (Comp) | Howell, MI | 05/07/07 | 05/04/07
61456 | Brillcast Inc. (Comp) | Grand Rapids, MI | 05/07/07 | 05/04/07
61457 | Featherlite Steel Division (Comp) | Shenandoah, IA | 05/07/07 | 05/03/07
61458 | S&S Plastics (Wkrs) | Hillside, NJ | 05/07/07 | 05/02/07
61459 | Honeywell Aerospace-Engines System Services (State) | Tucson, AZ | 05/07/07 | 05/01/07
61460 | Lozier Corporation (Comp) | Pittsburgh, PA | 05/07/07 | 05/04/07
61461 | The Troxel Company (Comp) | West Point, MS | 05/07/07 | 05/04/07
61462 | Tecumseh Products Company (Comp) | Tecumseh, MI | 05/07/07 | 05/04/07
61463 | Leick Furniture (Wkrs) | Sheboygan, WI | 05/07/07 | 05/04/07
61464 | Saint Gobain Performance Plastics (Comp) | Mundelein, IL | 05/08/07 | 05/07/07
61465 | IIG DSS Technologies (Comp) | Fair Haven, MI | 05/08/07 | 05/07/07
61466 | Twiss Associates (Wkrs) | Opelika, AL | 05/08/07 | 05/02/07
61467 | Federal Mogul (Wkrs) | Frankfort, IN | 05/08/07 | 05/07/07
61468 | Duracell (Gillette) (Comp) | Lexington, nc | 05/08/07 | 05/07/07
61469 | Southern Tool Mfg. Co. (Comp) | Winston-Salem, NC | 05/08/07 | 05/07/07
61470 | General Motors Springhill Mfg. (UAW) | Springhill, TN | 05/08/07 | 05/04/07
61471 | Bond Cote Corp (Wkrs) | Dublin, VA | 05/08/07 | 05/01/07
61472 | Strategic Distribution, Inc. (Wkrs) | Bristol, PA | 05/08/07 | 05/04/07
61473 | ICT Group, Inc. (Wkrs) | Dubois, PA | 05/08/07 | 05/07/07
61474 | Interface Fabrics, Inc. (Wkrs) | Elkin, NC | 05/08/07 | 05/04/07
61475 | Plastiflex (State) | Santa Ana, CA | 05/09/07 | 05/08/07
61476 | Eureka Manufacturing Company (Comp) | Norton, MA | 05/09/07 | 05/08/07
61477 | Gibraltar Industries (UAW) | Buffalo, NY | 05/09/07 | 05/08/07
61478 | Royal Home Fashions (Comp) | Oxford, NC | 05/09/07 | 05/07/07
61479 | Maui Pineapple Company, Ltd (ILWU) | Kahului, HI | 05/09/07 | 05/08/07
61480 | Elston-Richards Inc. (Union) | Anderson, IN | 05/09/07 | 05/01/07
61481 | Continental Structural Plastics (Wkrs) | Carey, OH | 05/09/07 | 04/30/07
61482 | Avon Products, Inc. (Wkrs) | Cincinnati, OH | 05/09/07 | 04/24/07
61483 | GE Consumer Finance (Wkrs) | Kettering, OH | 05/09/07 | 05/07/07
61484 | Intermet-Archer Creek (USWA) | Lynchburg, VA | 05/09/07 | 05/03/07
61485 | QRS Music Technologies, Inc. (Comp) | Seneca, PA | 05/09/07 | 05/01/07
61486 | Thompson Steel Company, Inc. (USWA) | Franklin Park, IL | 05/10/07 | 05/09/07
61487 | Pennsylvania House Showroom (Wkrs) | Hickory, NC | 05/10/07 | 05/09/07
61488 | Webb Furniture (Comp) | Galax, VA | 05/10/07 | 05/09/07
61489 | Lake Region Manufacturing (State) | Chaska, MN | 05/10/07 | 05/09/07
61490 | Cooper Manufacturing Company (State) | Searcy, AR | 05/10/07 | 05/09/07
61491 | Decor Originals, Inc. (Comp) | Conover, NC | 05/10/07 | 05/09/07
61492 | Woodward Controls, Inc. (Comp) | Niles, IL | 05/10/07 | 05/09/07
61493 | Alsco Ind. Inc. (Comp) | Sturbridge, MA | 05/10/07 | 05/09/07
61494 | Vanity Fair Brands, LP (Comp) | Monroeville, AL | 05/11/07 | 05/07/07
61495 | Irvin Automotive Products, Inc. (Wkrs) | Pontiac, MI | 05/11/07 | 05/07/07
61496 | M&K Textiles, Inc. (Comp) | Moultrie, GA | 05/11/07 | 05/10/07
61497 | Sentinel Consumer Products, Inc. (Comp) | Mentor, OH | 05/11/07 | 05/10/07
61498 | Sentinel Consumer Products, Inc. (Comp) | Anniston, AL | 05/11/07 | 05/10/07
61499 | Sentinel Consumer Products, Inc. (Comp) | Clearfield, UT | 05/11/07 | 05/10/07
61500 | Lancaster Glass Corporation (USW) | Lancaster, OH | 05/11/07 | 04/17/07
61501 | Visteon Regional Assembly and Mfg., LLC (Union) | Chesapeake, VA | 05/11/07 | 05/10/07

[FR Doc. E7-10014 Filed 5-23-07; 8:45 am]

BILLING CODE 4510-FN-P